DEPARTMENT OF TRANSPORTATION

Federal Aviation Administration

DEPARTMENT OF INTERIOR

National Park Service

List of Units of the National Park System Exempt From the Provisions of the National Parks Air Tour Management Act

AGENCY: Federal Aviation Administration, Transportation; National Park Service, Interior.

ACTION: List of exempt parks.

SUMMARY: The National Parks Air Tour Management Act (NPATMA) requires the Federal Aviation Administration (FAA) and National Park Service (NPS) to develop an air tour management plan for units of the national park system where an operator has applied for authority to conduct commercial air tours. The FAA Modernization and Reform Act of 2012 amended various provisions of NPATMA. One provision exempted national park units with 50 or fewer annual flights from the requirement to prepare an air tour management plan or voluntary agreement and requires FAA and NPS to jointly publish a list of exempt parks. By Federal Register notice (See 77 FR 75254, December 19, 2012), FAA and NPS published an initial list of exempt parks in 2012 and another list in 2014 (See 79 FR 14569-14570, March 14, 2014). This notice provides the annual updated list of parks that are exempt for calendar years 2014 and 2015.

FOR FURTHER INFORMATION CONTACT: Keith Lusk—Mailing address: Federal Aviation Administration, P.O. Box 92007, Los Angeles, California 90009-2007. Telephone: (310) 725-3808. Email address: Keith.Lusk@faa.gov. Vicki Ward—Mailing address: Natural Sounds and Night Skies Division, National Park Service, 1201 Oakridge Drive, Suite 100-31, Fort Collins, CO 80525. Telephone: (970) 267-2117. Email address: Vicki_Ward@nps.gov.

SUPPLEMENTARY INFORMATION:

I. Authority

1. NPATMA (Pub. L. 106-181, codified at 49 U.S.C. 40128) requires the FAA and NPS to develop an air tour management plan for units of the national park system where an operator has requested authority to provide commercial air tours. The FAA Modernization and Reform Act of 2012 (2012 Act) amended various provisions of NPATMA.

2. This Federal Register Notice addresses the following 2012 Act amendment provisions (which are codified at 49 U.S.C. 40128(a)(5)):

a. Exempt national park units that have 50 or fewer commercial air tour operations each year from the requirement to prepare an air tour management plan or voluntary agreement.

b. Authorize NPS to withdraw the exemption if the Director determines that an air tour management plan or voluntary agreement is necessary to protect resources and values or visitor use and enjoyment.

c. Require FAA and NPS to publish a list each year of national parks covered by the exemption.

II. List of Exempt Parks 2014

1. This list is based on the number of commercial air tour operations reported to the FAA and NPS by air tour operators conducting air tours under interim operating authority at national park units in calendar year 2014 for which the total operations was 50 or fewer. Parks on the exempt list are those that have at least one operator who has been granted operating authority to conduct commercial air tours over that park. Exempt parks are as follows:

Acadia National Park, ME

Big Bend National Park, TX

Black Canyon of the Gunnison National Park, CO

Capitol Reef National Park, UT

Capulin Volcano National Monument, NM

Carlsbad Caverns National Park, NM

Casa Grande Ruins National Monument, AZ

Cedar Breaks National Monument, UT

Colonial National Historical Park, VA

Colorado National Monument, CO

Coronado National Memorial, AZ

Devils Tower National Monument, WY

Dinosaur National Monument, UT/CO

Dry Tortugas National Park, FL

El Malpais National Monument, NM

El Morro National Monument, NM

Fort Bowie National Historic Site, AZ

Fort Davis National Historic Site, TX

Fort Union National Monument, NM

Gila Cliff Dwellings National Monument, NM

Golden Spike National Historic Site, UT

Grand Teton National Park, WY

Great Sand Dunes National Park and Preserve, CO

Guadalupe Mountains National Park, NM

Hohokam Pima National Monument, AZ

Hovenweep National Monument, CO/UT

Hubbell Trading Post National Historic Site, AZ

Kings Canyon National Park, CA

Lake Chelan National Recreation Area, WA

Lassen Volcanic National Park, CA

Mesa Verde National Park, CO

Mojave National Preserve, CA

Montezuma Castle National Monument, AZ

Navajo National Monument, AZ

North Cascades National Park, WA

Olympic National Park, WA

Organ Pipe Cactus National Monument, AZ

Pecos National Historical Park, NM

Petrified Forest National Park, AZ

Petroglyph National Monument, NM

Pipe Spring National Monument, AZ

Rio Grande Wild and Scenic River, TX

Saguaro National Park, AZ

Salinas Pueblo Missions National Monument, NM

San Juan Island National Historical Park, WA

Sequoia National Park, CA

Sunset Crater Volcano National Monument, AZ

Timpanogos Cave National Monument, UT

Tumacacori National Historic Park, AZ

Tuzigoot National Monument, AZ

Voyageurs National Park, MN

Walnut Canyon National Monument, AZ

Wupatki National Monument, AZ

Yellowstone National Park, ID/MT/WY

Yosemite National Park, CA

Yucca House National Monument, CO

Zion National Park, UT

2. NPS is authorized to withdraw a park from the exempt list if NPS determines that an air tour management plan or voluntary agreement is necessary to protect park resources and values or park visitor use and enjoyment. Under this statutory authority, the NPS Director informed the FAA Administrator in writing on September 15, 2015, that NPS withdrew the exemption for Death Valley National Park and Mount Rainier National Park. These two parks have been removed from the 2014 exempt list.

III. List of Exempt Parks 2015

1. This list is based on the number of commercial air tour operations reported to the FAA and NPS by air tour operators conducting air tours under interim operating authority at national park units in calendar year 2015 for which the total operations was 50 or fewer. Parks on the exempt list are those that have at least one operator who has been granted operating authority to conduct commercial air tours over that park. Exempt parks are as follows:

Acadia National Park, ME

Big Bend National Park, TX

Black Canyon of the Gunnison National Park, CO

Cape Hatteras National Seashore, NC

Capitol Reef National Park, UT

Capulin Volcano National Monument, NM

Carlsbad Caverns National Park, NM

Casa Grande Ruins National Monument, AZ

Cedar Breaks National Monument, UT

Colorado National Monument, CO

Coronado National Memorial, AZ

Devils Tower National Monument, WY

Dinosaur National Monument, UT/CO

Dry Tortugas National Park, FL

El Malpais National Monument, NM

El Morro National Monument, NM

Fort Bowie National Historic Site, AZ

Fort Davis National Historic Site, TX

Fort Union National Monument, NM

Gila Cliff Dwellings National Monument, NM

Golden Spike National Historic Site, UT

Grand Teton National Park, WY

Great Sand Dunes National Park and Preserve, CO

Guadalupe Mountains National Park, NM

Hohokam Pima National Monument, AZ

Hovenweep National Monument, CO/UT

Hubbell Trading Post National Historic Site, AZ

Kings Canyon National Park, CA

Mojave National Preserve, CA

Montezuma Castle National Monument, AZ

Navajo National Monument, AZ

North Cascades National Park, WA

Olympic National Park, WA

Organ Pipe Cactus National Monument, AZ

Pecos National Historical Park, NM

Petrified Forest National Park, AZ

Petroglyph National Monument, NM

Pipe Spring National Monument, AZ

Rio Grande Wild and Scenic River, TX

Saguaro National Park, AZ

Salinas Pueblo Missions National Monument, NM

San Juan Island National Historical Park, WA

Sequoia National Park, CA

Sunset Crater Volcano National Monument, AZ

Timpanogos Cave National Monument, UT

Tumacacori National Historic Park, AZ

Tuzigoot National Monument, AZ

Voyageurs National Park, MN

Walnut Canyon National Monument, AZ

Wupatki National Monument, AZ

Yellowstone National Park, ID/MT/WY

Yosemite National Park, CA

Yucca House National Monument, CO

Zion National Park, UT

2. Mesa Verde National Park, CO, is on the 2014 exempt list but not on the 2015 exempt list because the combined number of commercial air tours reported by all air tour operators was 50 tours or fewer in 2014, but exceeded 50 tours in 2015.

3. Cape Hatteras National Seashore, NC, is not on the 2014 exempt list but is on the 2015 exempt list because the combined number of commercial air tours reported by all air tour operators exceeded 50 tours in 2014, but was 50 tours or fewer in 2015.

4. Colonial National Historical Park, VA; Lake Chelan National Recreation Area, WA; and Lassen Volcanic National Park, CA are on the 2014 exempt list but not on the 2015 exempt list because there is no longer any operator(s) who has applied for operating authority to conduct commercial air tours over those parks. At all the other parks on the 2015 list, there is at least one operator who has applied for operating authority to conduct tours over that park.

IV. List of Exempt Parks for Future Years

The FAA and NPS will publish a list of exempt parks annually. The list could change from year to year since parks may be added to or removed from the exempt list based on the previous year's number of annual operations. In order to continue to be exempt, a park must have 50 or fewer annual commercial air tour operations in any given calendar year. The list could also change if NPS withdraws an exempted park. NPS is authorized to withdraw a park from the exempt list if NPS determines that an air tour management plan or a voluntary agreement is necessary to protect park resources and values or park visitor use and enjoyment. Pursuant to the 2012 Act, the NPS shall inform the FAA in writing of each determination to withdraw an exemption. At parks that lose exempt status, operators will return to interim operating authority requirements until an air tour management plan or a voluntary agreement has been established.

Issued in Hawthorne, CA, on August 11, 2016.
Glen A. Martin,
Regional Administrator, Western-Pacific Region, Federal Aviation Administration.
Issued in Washington, DC, on August 17, 2016.
Raymond M. Sauvajot,
Associate Director, Natural Resource Stewardship and Science, National Park Service.

[FR Doc. 2016-26092 Filed 10-27-16; 8:45 am]

BILLING CODE 4910-13-P